ENVIRONMENTAL PROTECTION AGENCY

[EPA-HQ-OPP-2016-0078; FRL-9943-50]

Agency Information Collection Activities; Proposed Renewal of an Existing Collection (EPA ICR No. 2415.03); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Pesticide Environmental Stewardship Program Annual Measures Reporting” and identified by EPA ICR No. 2415.03 and OMB Control No. 2070-0188, represents the renewal of an existing ICR that is scheduled to expire on November 30, 2016. Before submitting the ICR to OMB for review and approval, EPA is soliciting comments on specific aspects of the proposed information collection that is summarized in this document. The ICR and accompanying material are available in the docket for public review and comment.

DATES: Comments must be received on or before May 20, 2016.

ADDRESSES: Submit your comments, identified by docket identification (ID) number EPA-HQ-OPP-2016-0078, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Scott Drewes, Field and External Affairs Division (7506P), Office of Pesticide Programs, Environmental Protection Agency, 1200 Pennsylvania Ave. NW., Washington, DC 20460-0001; telephone number: 703-347-0107; email address: drewes.scott@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Pesticide Environmental Stewardship Program Annual Measures Reporting.

ICR number: EPA ICR No. 2415.03.

OMB control number: OMB Control No. 2070-0188.

ICR status: This ICR is currently scheduled to expire on November 30, 2016. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This ICR enables EPA to run the Pesticide Environmental Stewardship Program (PESP). PESP is an EPA voluntary program implemented by the Office of Pesticide Programs (OPP). Its goal is to promote environmental stewardship to protect human health and the environmental. PESP encourages the use of integrated pest management (IPM) strategies to reduce pests and pesticide risks through partnerships with entities among the pesticide user community. IPM is an approach that involves making the best choices from among a series of pest management practices. It allows for economical pest management, and does so with the least possible hazard to people, property, and the environment. PESP uses the information collected to establish partner membership, develop stewardship strategies, measure progress towards stewardship goals, and award incentives.

While most PESP members are entities that are pesticide end-users, several others are organizations which focus on training, educating, or influencing pesticide users. To become a PESP member, a pesticide user entity or an organization submits an application and a five-year strategy. The strategy outlines how environmental and human health risk reduction goals will be achieved through the implementation of IPM, or through educating others on IPM. In addition, members submit annual progress reports that enable EPA and PESP members to track progress being made in adopting IPM activities and reductions in risks to human health and the environmental. Entities in the PESP program benefit through technical assistance, and through incentives for achievements.

Burden statement: The annual public reporting and recordkeeping burden for this collection of information is estimated to average 114 hours per respondent. Burden is defined in 5 CFR 1320.3(b).

The ICR, which is available in the docket along with other related materials, provides a detailed explanation of the collection activities and the burden estimate that is only briefly summarized here:

Respondents/Affected Entities: Entities potentially affected by this ICR are pesticide user companies and organizations, or entities that practice IPM or promote the use of IPM through education and training. EPA expects that most respondents will come from the following industries: Agriculture, Forestry, Fishing and Hunting (NAICS Code 11), Crop Production (NAICS Code 111), Nursery and Floriculture Production (NAICS Code 11142), Nursery and Tree Production (NAICS Code 111421), Forestry and Logging (NAICS Code 113), Utilities (NAICS Code 22), Electric Power Generation, Transmission and Distribution (NAICS Code 2211), Services to Buildings and Dwellings (NAICS Code 5617), Exterminating and Pest Control Services (NAICS Code 56171), Janitorial Services (NAICS Code 56172), Landscaping Services (NAICS Code 56173), Elementary and Secondary Schools (NAICS Code 6111), Junior Colleges (NAICS Code 6112), Colleges, Universities, and Professional Schools (NAICS Code 6113), Hospitals (NAICS Code 622), Child Day Care Services (NAICS Code 6244), Golf Courses and Country Clubs (NAICS Code 71391), and Environment, Conservation and Wildlife Organizations (NAICS Code 813312).

Estimated total number of potential respondents: 419.

Frequency of response: Annual and on occasion.

Estimated total average number of responses for each respondent: Respondents submit a one-time PESP Membership application, an annual survey, and a PEST strategy every five years.

Estimated total annual burden hours: 47,665 hours.

Estimated total annual costs: $ 3,073,383. This is the estimated burden cost; there are no capital investment or maintenance and operational costs for this information collection.

III. Are there changes in the estimates from the last approval?

There is an increase of 4642 hours in the total estimated respondent burden compared with that identified in the ICR currently approved by OMB. This increase reflects EPA's updating of burden estimates for this collection based upon historical information on the number of PESP members. Members are classified as IMP Promoters, IPM Users, and National IMP Users. Based on revised estimates, the number of IPM Promoters has decreased, the number of IMP users has increased, and the number of National IPM users has not changed. While the estimated burden per response has not changed for any category, the shift in memberships has resulted in a net increase in the overall burden. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: March 14, 2016.
Louise P. Wise,
Acting Assistant Administrator, Office of Chemical Safety and Pollution Prevention.

[FR Doc. 2016-06315 Filed 3-18-16; 8:45 am]

BILLING CODE 6560-50-P